DEPARTMENT OF THE INTERIOR

National Park Service

[NPS-SERO-BISO-15482; PPSESEROC3, PPMPSAS1Y.YP0000]

Notice of Intent To Prepare an Environmental Impact Statement for Contaminated Mine Drainage and Treatment Systems in the Big South Fork National River and Recreation Area, Kentucky and Tennessee

AGENCY: National Park Service, Interior.

ACTION: Notice of intent.

SUMMARY: Pursuant to section 102(2)(C) of the National Environmental Policy Act of 1969, the NPS will prepare an Environmental Impact Statement (EIS) for the Contaminated Mine Drainage and Treatment Systems in the Big South Fork National River and Recreation Area. This notice initiates the pubic scoping process for this EIS.

DATES: The date, time, and location of public meetings will be announced through the NPS Planning, Environment, and Public Comment (PEPC) Web site http://parkplanning.nps.gov/biso, the Big South Fork National River and Recreation Area Web site, and in local media outlets. The NPS will conduct public meetings in the local area to receive input from interested parties on issues, concerns, and suggestions pertinent to coal mine drainage mitigation and treatment. The comment period will be announced at the meetings and will be published on the following Web site http://parkplanning.nps.gov/biso.

ADDRESSES: Interested individuals, organizations, and agencies are encouraged to provide written comments regarding the scope of issues to be addressed in the EIS. Written comments may be sent to: Niki Stephanie Nicholas, Superintendent, Big South Fork National River and Recreation Area, 4564 Leatherwood Road, Oneida, TN 37841.

FOR FURTHER INFORMATION CONTACT: Tom Blount, Chief of Natural Resources, Big South Fork National River and Recreation Area, 4564 Leatherwood Road, Oneida, TN, 423-569-9778.

SUPPLEMENTARY INFORMATION: The Big South Fork National River and Recreation Area is within the Cumberland Plateau area and straddles the Kentucky and Tennessee state line. This region has been extensively mined for coal since the early 1900s and mining waste materials were typically dumped near the mines. Surface and ground water that comes in contact with mine spoils or that is discharged from the mines is often acidic and has elevated (toxic) concentrations of heavy metals. Contaminated mine drainage pollutes aquatic systems and is considered to be partly responsible for a reduction in biological diversity of lakes and streams in the Big South Fork area.

The NPS developed mitigation and treatment systems for nine specific sites to a conceptual level during a prior environmental assessment effort. During that effort it was recommended that an EIS be prepared due to the scope and complexity of the project. As a result, the NPS is now preparing a Contaminated Mine Drainage Mitigation and Treatment System EIS. The purpose of this project is to address contaminated mine drainage (CMD) at nine sites within the McCreary County, Kentucky portion of BISO and to create a programmatic approach to considering future treatment options at former mining sites throughout Big South Fork National River and Recreation Area. These actions will address the need to improve water quality in tributaries of the Big South Fork River. As part of this effort, the NPS will consider adjusting or refining the preliminary engineering plans to install mine drainage mitigation and treatment systems at the nine sites that were studied in the earlier environmental assessment. A draft EIS will be prepared and presented to the public for review and comment, followed by preparation and availability of the Final Contaminated Mine Drainage Mitigation and Treatment System EIS.

A scoping brochure will be available summarizing the purpose, need and objectives of the EIS. Copies of that information may be obtained by visiting the NPS public comment and planning Web site at http://parkplanning.nps.gov/biso, or from the Office of the Superintendent, Niki Stephanie Nicholas, Big South Fork National River and Recreation Area, 4564 Leatherwood Road, Oneida, TN, 423-569-9778.

If you wish to comment during the scoping process, you may use any one of several methods. The preferred method for submitting comments is on the NPS PEPC Web site at http://parkplanning.nps.gov/biso. You may also mail or hand-deliver your comments to: Big South Fork National River and Recreation Area, Attention: Coal Mine Drainage Treatment and Mitigation EIS, 4564 Leatherwood Road, Oneida, TN 37841

Comments will also be accepted during public meetings; however, comments in any format (hard copy or electronic) submitted on behalf of others will not be accepted. Before including your address, phone number, email address, or other personal identifying information in any comment, you should be aware that your entire comment—including your personal identifying information—may be made publicly available at any time. While you can ask us in your comment to withhold your personal identifying information from public review, we cannot guarantee that we will be able to do so.

The responsible official for this Coal Mine Drainage Mitigation and Treatment System EIS is the Regional Director, NPS Southeast Region, 100 Alabama Street SW., 1924 Building, Atlanta, Georgia 30303.

Dated: April 30, 2014.
Sarah Craighead,
Acting Regional Director, Southeast Region.

[FR Doc. 2014-10792 Filed 5-9-14; 8:45 am]

BILLING CODE 4310-JD-P